DEPARTMENT OF TRANSPORTATION

Federal Aviation Administration

Notice of Intent To Rule on Request To Release Airport Property at Aransas County Airport, Rockport, TX

AGENCY: Federal Aviation Administration (FAA), DOT.

ACTION: Notice of request to release airport property.

SUMMARY: The FAA proposes to rule and invites public comment on the release of land at the Aransas County Airport under the provisions of section 125 of the Wendell H. Ford Aviation Investment Reform Act for the 21st Century (AIR 21).

DATES: Comments must be received on or before August 11, 2006.

ADDRESSES: Comments on this application may be mailed or delivered to the FAA at the following address: Mr. Mike Nicely, Manager, Federal Aviation Administration, Southwest Region, Airports Division, Texas Airports Development Office, ASW-650, Fort Worth, Texas 76193-0650.

In addition, one copy of any comments submitted to the FAA must be mailed or delivered to the Honorable Glenn D. Guillory, Aransas County Judge, at the following address: Aransas County Judge, 301 North Live Oak, Rockport, Texas 78383.

FOR FURTHER INFORMATION CONTACT: Mr. Rodney Clark, Program Manager, Federal Aviation Administration, Texas Airports Development Office, ASW-650, 2601 Meacham Boulevard, Fort Worth, Texas 76193-0650, Telephone: (817) 222-5659, e-mail: rodney.clark@faa.gov, fax: (817) 222-5989.

The request to release property may be reviewed in person at this same location.

SUPPLEMENTARY INFORMATION: The FAA invites public comment on the request to release property at Aransas County Airport under the provisions of the AIR 21.

On May 9, 2006, the FAA determined that the request to release property at Aransas County Airport, submitted by the State, met the procedural requirements of the Federal Aviation Regulations, Part 155.

The following is a brief overview of the request: The County of Aransas requests the release of 8.75 acres of non-aeronautical use airport property. The land was part of a transfer from the Federal government via the Surplus Property Act of 1944. The funds generated by the release will be used for upgrading, maintenance, operation and development of the airport.

Any person may inspect the request in person at the FAA office listed above under FOR FURTHER INFORMATION CONTACT.

In addition, any person may, upon request, inspect the application, notice and other documents relevant to the application in person at the Aransas County Airport in Rockport, Texas, telephone number 361-790-0141.

Issued in Fort Worth, Texas on June 27, 2006.
Kelvin Solco,
Manager, Airports Division.

[FR Doc. 06-6142 Filed 7-11-06; 8:45 am]

BILLING CODE 4910-13-M